FEDERAL DEPOSIT INSURANCE CORPORATION

FDIC Advisory Committee on Banking Policy; Notice of Meeting

AGENCY: Federal Deposit Insurance Corporation (FDIC).

ACTION: Notice of open meeting.

SUMMARY: In accordance with the Federal Advisory Committee Act (Pub. L. 92-463, as amended), notice is hereby given of a meeting of the FDIC Advisory Committee on Banking Policy (“Advisory Committee”), which will be held in Washington, DC. The Advisory Committee will provide advice and recommendations on a broad range of issues relating to the FDIC's mission and activities.

Time And Place: Wednesday, June 2, 2004, from 9 a.m. to 3 p.m. The meeting will be held in the FDIC Board Room on the sixth floor of the FDIC Building located at 550 17th Street, NW., Washington, DC.

Agenda: The agenda items will include discussion of one or more of the following topics: Federal preemption of state laws, payday lending, Basel II capital requirements, the boundaries between banking and commerce, the ten-percent deposit cap and industry consolidation, the two-tiered approach to bank regulation, FDIC's Center for Financial Research, and recent proposed revisions to the Community Reinvestment Act regulations. Agenda items are subject to change. Any changes to the agenda will be announced at the beginning of the meeting.

Type of Meeting: The meeting will be open to the public, limited only by the space available on a first-come, first-served basis. For security reasons, members of the public will be subject to security screening procedures and must present a valid photo identification to enter the building. The FDIC will provide attendees with auxiliary aids (e.g., sign language interpretation) required for this meeting. Those attendees needing such assistance should call (202) 416-2089 (Voice); (202) 416-2007 (TTY), at least two days before the meeting to make necessary arrangements. Written statements may be filed with the committee before or after the meeting.

FOR FURTHER INFORMATION CONTACT: Requests for further information concerning the meeting may be directed to Mr. Robert E. Feldman, Committee Management Officer of the FDIC, at (202) 898-3742.

Dated: May 11, 2004.
Federal Deposit Insurance Corporation.
Robert E. Feldman,
Committee Management Officer.

[FR Doc. E4-1160 Filed 5-13-04; 8:45 am]

BILLING CODE 6714-01-P